DEPARTMENT OF TRANSPORTATION

Federal Motor Carrier Safety Administration

[Docket No. FMCSA-2019-0157]

Agency Information Collection Activities; Revision of an Approved Information Collection: Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests approval to revise an ICR titled “Training Certification for Entry-Level Commercial Motor Vehicle Operators,” which will now be used to register providers of entry-level driver training and to provide State Drivers' Licensing Agencies with information on individuals who have completed said training. If approved, this revision will allow FMCSA to collect information on registered training providers and entry-level driver training certification information until 2022.

DATES: We must receive your comments on or before May 7, 2020. OMB must receive your comments by this date in order to act on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Joshua Jones, Commercial Driver's License Division, Department of Transportation, Federal Motor Carrier Safety Administration, West Building 6th Floor, 1200 New Jersey Avenue SE, Washington, DC 20590. Telephone: 202-366-7332; email: Joshua.jones@dot.gov.

SUPPLEMENTARY INFORMATION:

Title: Training Certification for Entry-Level Commercial Motor Vehicle Operators.

OMB Control Number: 2126-0028.

Type of Request: Revision of a currently-approved information collection.

IC-1 (Training Certification for Entry-Level Drivers Under Subpart E)

Respondents: Entry-level Commercial Motor Vehicle (CMV) operators.

Estimated Number of Respondents (average per year): 235,824.

Estimated Time per Response (average): 10 minutes.

Expiration Date: April 30, 2020.

Frequency of Response: On occasion. Entry-level interstate CDL holders receive a certificate when they successfully complete mandatory training, and must present a copy of it to their employer in order to be qualified to drive a commercial motor vehicle (CMV) in interstate commerce. The employer keeps a copy of the training certificate in the driver qualification file.

Estimated Total Annual Burden for IC-1: 39,304 hours.

IC-2 (Training Provider Registration)

Respondents: Training providers.

Estimated Number of Respondents (average per year): 6,837.

Estimated Time per Response (average): 1.84 hours.

Expiration Date: April 30, 2020.

Frequency of Response: All training providers will need to initially register once. Additionally, all registered training providers must update their information at least biennially. They are also required to provide an update if any key information (company name, address, phone number, types of training offered, etc.) changes prior to their biennial update.

Estimated Total Annual Burden for IC-2: 15,026 hours.

IC-3 (Driver Training Certification)

Respondents: Training providers.

Estimated Number of Respondents (average per year): 6,837.

Estimated Time per Response: 5 minutes.

Expiration Date: April 30, 2020.

Frequency of Response: After an individual driver-trainee completes training administered by a training provider listed on the Training Provider Registry (TPR), that training provider must submit training certification information regarding the driver-trainee to the TPR.

Estimated Total Annual Burden for IC-3: 12,946 hours.

Estimated Total Burden Under this ICR: 67,276 hours.

Background

Section 4007(a)(2) of the Intermodal Surface Transportation Efficiency Act of 1991 (ISTEA) (Pub. L. 102-240, December 18, 1991) directed the Federal Highway Administration (predecessor Agency to FMCSA) to “. . . commence a rulemaking proceeding on the need to require training of all entry level drivers of commercial motor vehicles.” FMCSA subsequently published the final rule titled “Minimum Training Requirements for Entry-Level Commercial Motor Vehicle Operators” (69 FR 29384) on May 21, 2004, with an effective date of July 20, 2004, implementing Section 4007(a)(2) of ISTEA. The rule mandated training for interstate CMV drivers on four topics: Driver qualifications, hours-of-service of drivers, driver wellness, and whistle-blower protection. Under Subpart E of the existing Entry Level Driver Training (ELDT) requirements of 49 CFR part 380, employers are prohibited from allowing an entry-level driver to operate a CMV without ensuring that the driver has received this ELDT as specified under 49 CFR 380.503. These entry-level interstate CDL drivers receive a certificate when they successfully complete the mandatory training, and must present a copy of it to their employer to be qualified to drive a CMV in interstate commerce. The employer keeps a copy of the training certificate in the driver qualification file. During an investigation, the certificate serves as proof that the CDL driver completed the required training. The currently approved collection of information with OMB Control Number 2126-0028 titled “Training Certification for Entry-Level Commercial Motor Vehicle Operators” which was most recently approved on April 19, 2017, and which has an expiration date of April 30, 2020, reflects these existing ELDT requirements under Subpart E of 49 CFR part 380.

On July 6, 2012, President Obama signed legislation titled the “Moving Ahead for Progress in the 21st Century Act” (MAP-21) (Pub. L. 112-141, 126 Stat. 405, 791). Section 32304 of MAP-21 directed FMCSA to develop and establish minimum driver training standards for applicants for a CDL and/or certain CDL endorsements. FMCSA subsequently published the final rule titled “Minimum Training Requirements for Entry-Level Commercial Motor Vehicle Operators” (81 FR 88732) (ELDT final rule) on December 8, 2016, with a compliance date of February 7, 2020, implementing section 32304 of MAP-21. That final rule eliminated the existing driver training regulations under subpart E of part 380, established new minimum training standards for entry-level drivers, and in doing so established two separate information collection actions: (1) Training providers must submit information to FMCSA to ensure that they meet the new training provider eligibility requirements and may therefore be listed on a new TPR; and (2) after an individual driver-trainee completes training administered by a training provider listed on the TPR, that training provider must submit training certification information regarding the driver-trainee to the TPR. However, because the compliance dates for that final rule were set as three years after its publication, FMCSA did not, at that time, revise the collection of information to reflect these two new provisions, opting to provide an update at the time of the next renewal for the collection. Subsequently, on March 6, 2019, FMSCA published a separate final rule titled “Commercial Driver's License Upgrade from Class B to Class A” (84 FR 8029), that amended the ELDT regulations that were published on December 8, 2016, by adopting a new Class A CDL theory instruction upgrade curriculum to reduce the training time and costs incurred by Class B CDL holders upgrading to a Class A CDL. This March 6, 2019, final rule does not substantively affect the paperwork collection burden associated with the ELDT regulations, therefore no action was taken to update the collection of information at that time.

On February 4, 2020, the Agency published an interim final rule titled “Extension of Compliance Date for Entry-Level Driver Training” (85 FR 6088) that further amends the ELDT regulations that were published on December 8, 2016, by extending the compliance date for the rule from February 7, 2020, to February 7, 2022. This compliance date extension will provide FMCSA additional time to complete development of the TPR, and provides State Driver Licensing Agencies with time to modify their information technology systems and procedures, as necessary, to accommodate their receipt of driver-specific ELDT data from the TPR. In a July 18, 2019, proposed rule titled “Partial Extension of Compliance Date for Entry-Level Driver Training” (84 FR 34324), FMCSA had proposed extending the compliance date from February 7, 2020, to February 7, 2022, only for the requirement for training providers to submit training certification information to the TPR for each individual driver-trainee that completes training. The compliance date for the “Training Provider Registration” information collection activities was proposed to have remained February 7, 2020. Under the February 4, 2020, interim final rule, FMCSA is now delaying the entire ELDT final rule, as opposed to a partial delay as originally proposed, due to delays in implementation of the TPR that were not foreseen when the proposed rule was published.

Under this revision, the existing entry-level driver training requirements and information collection activities under 49 CFR 380 Subpart E that will continue to be in force for the first two years, 2020 and 2021, of the three-year period covered by this ICR are treated as a separate information collection (IC), IC-1. The “Training Provider Registration” information collection activities, and the “Driver Training Certification Information” information collection activities, that go into effect as of February 7, 2022, under the new ELDT requirements are also treated as separate information collections, IC-2 and IC-3, respectively.

On July 3, 2019, FMCSA published a notice in the Federal Register allowing for a 60-day comment period on this ICR. The Agency received one comment to that notice. The Commercial Vehicle Training Association (CVTA) stated their support for OMB to approve the new collections under what are now IC-2 (Training Provider Registration) and IC-3 (Driver Training Certification Information). CVTA also sought clarification as to why there were separate ICs presented in the 60-day notice for the “Training Provider Registration” function and the “Driver Training Certification Information” function. The Agency clarifies that it presented those two activities as separate ICs in order to improve the clarity and transparency of the analysis. Guidance from the Office of Information and Regulatory Affairs (OIRA) at OMB regarding the preparation of ICRs and Supporting Statements recommends that each form or collection instrument have a separate IC within a given ICR, in order to provide a more meaningful and easily understood estimate of the burden associated with each form or collection. OIRA also recommends that agencies present separate ICs within an ICR if the Agency believes that doing so would be informative.

Public Comments Invited

FMCSA requests that you comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

The agency will summarize or include your comments in the request for OMB's clearance of this information collection.

Issued under the authority of 49 CFR 1.87.

Kenneth Riddle,
Acting Associate Administrator for Registration and Research.

[FR Doc. 2020-07221 Filed 4-6-20; 8:45 am]

BILLING CODE 4910-EX-P